DEPARTMENT OF DEFENSE

Department of the Army

Availability of U.S. Patent Application for Non-Exclusive, Exclusive, or Partially Exclusive Licensing for Chemical and Biological Sampling Device and Kit and Method of Use Thereof

AGENCY: U.S. Army Soldier and Biological Chemical Command (SBCCOM), DoD.

ACTION: Notice.

SUMMARY: In accordance with 35 U.S.C. 209 and 37 CFR part 404 announcement is made of the availability for licensing of the following U.S. Patent application for non-exclusive, exclusive, or partially exclusive licensing. The patent application listed below has been assigned to the United States Government as represented by the Secretary of the Army, Washington, DC.

Title: “Chemical and Biological Sampling Device and Kit and Method of Use Thereof.”

Description: The present invention relates to a sampling device and kit for collecting chemical and biological samples in a wet or dry format. The invention provides a means to easily collect chemical and biological samples, safely transport the collected samples with no leakage, and safely dispense a collected sample into a sterile capture vial/bottle for analysis that provides for optimum sample recovery and has been designed to be easy to operate while wearing protective gear.

Patent Application Number: 09/974,436.

Filing Date: October 10, 2001.

FOR FURTHER INFORMATION CONTACT: Mr. John Biffoni, Intellectual Property Attorney, U.S. Army SBCCOM, ATTN: AMSSB-CC (Bldg E4435), APG, MD 21010-5424, Phone: (410) 436-1158; FAX: 410-436-2534 or E-mail: John.Biffoni@sbccom.apgea.army.mil.

SUPPLEMENTARY INFORMATION: None.

Luz D. Ortiz,
Army Federal Register Liaison Officer.

[FR Doc. 02-2216 Filed 1-29-02; 8:45 am]

BILLING CODE 3710-08-M